ENVIRONMENTAL PROTECTION AGENCY

[FRL-9965-66-OARM]

National and Governmental Advisory Committees

AGENCY: Environmental Protection Agency (EPA).

ACTION: Notice of Public Advisory Committee meeting.

SUMMARY: Pursuant to the Federal Advisory Committee Act, Public Law 92-463, notice is hereby given that the National Advisory Committee and the Governmental Advisory Committee will hold a public meeting on Thursday, September 14 and Friday, September 15, 2017 in Washington, DC. The meeting is open to the public.

DATES: The National and Governmental Advisory Committees will hold an open meeting on Thursday, September 14, 2017 from 9:00 a.m. to 5:30 p.m., and Friday, September 15, 2017 from 9:00 a.m. until 3:00 p.m.

ADDRESSES: The meeting will be held at the U.S. EPA, Conference Room 2138, located in the William Jefferson Clinton South Building, 1200 Pennsylvania Ave. NW., Washington, DC 20004. Telephone: 202-564-2294. The meeting is open to the public, with limited seating on a first-come, first-served basis.

SUPPLEMENTARY INFORMATION: The agenda, meeting materials, and general information about the NAC and GAC will be available at http://www2.epa.gov/faca/nac-gac. If you wish to make oral comments or submit written comments to the NAC/GAC please contact Oscar Carrillo at least five days prior to the meeting at carrillo.oscar@epa.gov.

Purpose of meeting: The purpose of the meeting is to provide advice on trade and environment issues related to the North American Agreement on Environmental Cooperation. The meeting will also include a public comment session.

Meeting access: For information on access or services for individuals with disabilities, please contact Oscar Carrillo at 202-564-0347 or carrillo.oscar@epa.gov. To request accommodation of a disability, please contact Oscar Carrillo, preferably at least 10 days prior to the meeting, to give EPA as much time as possible to process your request.

Dated: July 17, 2017.
Oscar Carrillo,
Designated Federal Officer.

[FR Doc. 2017-16812 Filed 8-8-17; 8:45 am]

BILLING CODE 6550-50-P